DEPARTMENT OF THE INTERIOR

Office of the Secretary

Privacy Act of 1974; as Amended; Revisions to an Existing System of Records

AGENCY: Office of the Secretary, National Business Center, Aviation Management Directorate, Interior.

ACTION: Notice of revisions to an existing System of Records notice.

SUMMARY: In accordance with the Privacy Act of 1974, as amended (5 U.S.C. 552a), the Office of the Secretary, National Business Center, Aviation Management Directorate (AMD) is issuing public notice of its intent to modify an existing Privacy Act system of records, INTERIOR OS-12, “Official Pilot Folders,” (previously also known as AAS-97, “Pilot Flight Time Report”, and as OAS-1, “Official Pilot Folder”). The revisions will reflect the reorganization of the previous Office of Aircraft Services, with changes in office names, locations, contact numbers, and will also standardize the name and number of the system of records.

DATES: Comments must be received by November 4, 2009.

ADDRESSES: Any person interested in commenting on this amendment may do so by submitting comments in writing to the Office of the Secretary Privacy Act Officer at U.S. Department of the Interior, Office of the Secretary, Privacy Officer, 1951 Constitution Avenue, NW., MS 116 SIB, Washington, DC 20240; or e-mailing comments to Linda_Thomas@nbc.gov. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Associate Director, National Business Center, Aviation Management, 300 E. Mallard Drive, Suite 200, Boise, ID 83706. You may also telephone (208) 433-5000.

SUPPLEMENTARY INFORMATION: The Office of the Secretary, National Business Center, Aviation Management Directorate maintains and is proposing to amend the system of notice for OS-12, “Official Pilot Folders” (formerly OAS-97, “Pilot Flight Time Report”, OAS-1, “Official Pilot Folder”). The amendments are to identify that the Office of Aircraft Services was reorganized under the Office of the Secretary, National Business Center as the Aviation Management Directorate (AMD). AMD's area offices were re-categorized as regional offices; and locations and contact numbers were changed. Additionally, the system designation is clarified to be OS-12, “Official Pilot Folders.” The system changes will be effective as proposed at the end of the comment period unless comments are received which would require a contrary determination. The Department will publish a revised notice if changes are made based upon a review of comments received.

Dated: September 21, 2009.
Linda S. Thomas,
Privacy Officer, Office of the Secretary.

SYSTEM NAME:

Official Pilot Folders, OS-12.

SYSTEM LOCATIONS:

(1) Office of the Secretary, National Business Center, Aviation Management Directorate, 300 E. Mallard Drive, Suite 200, Boise, ID 83706;

(2) Office of the Secretary, National Business Center, Aviation Management Directorate, Alaska Regional Office, 4405 Lear Court, AK 95502-1052.

CATEGORIES OF INDIVIDUALS COVERED BY THE SYSTEM:

Professional, dual-function, and incidental pilots employed by Department of the Interior bureaus and offices.

CATEGORIES OF RECORDS COVERED BY THE SYSTEM:

The system contains information relative to certificates, qualifications, experience levels, flight activity, currency and proficiency of the pilots employed by the Department.

AUTHORITY FOR MAINTENANCE OF THE SYSTEM:

5 U.S.C. 301; Reorganization Plan 3 of 1950; FAA Regulations at 14 CFR Parts 1, 61, and 91; Department of the Interior Manual at 350 Departmental Manual 1 and following.

ROUTINE USES OF RECORDS MAINTAINED IN THE SYSTEM, INCLUDING CATEGORIES OF USER AND THE PURPOSES OF SUCH USES:

The primary use of the records is to determine pilot qualifications and to monitor compliance with Office of the Secretary, National Business Center, Aviation Management Directorate directives and Federal Aviation Regulations. Disclosure outside the Department of the Interior may be made without the consent of the individual to whom the record pertains under the following routine uses:

(1)(a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(2) To a congressional office in response to a written inquiry that an individual covered by the system, or the heir of such individual if the covered individual is deceased, has made to the office.

(3) To any criminal, civil, or regulatory law enforcement authority (whether federal, state, territorial, local, tribal or foreign) when a record, either alone or in conjunction with other information, indicates a violation or potential violation of law—criminal, civil, or regulatory in nature, and the disclosure is compatible with the purpose for which the records were compiled.

(4) To an official of another Federal agency to provide information needed in the performance of official duties related to reconciling or reconstructing data files or to enable that agency to respond to an inquiry by the individual to whom the record pertains.

(5) To Federal, state, territorial, local, tribal, or foreign agencies that have requested information relevant or necessary to the hiring, firing or retention of an employee or contractor, or the issuance of a security clearance, license, pilot qualification card, contract, grant or other benefit, when the disclosure is compatible with the purpose for which the records were compiled.

(6) To representatives of the National Archives and Records Administration to conduct records management inspections under the authority of 44 U.S.C. 2904 and 2906.

(7) To state and local governments and tribal organizations to provide information needed in response to court order and/or discovery purposes related to litigation, when the disclosure is compatible with the purpose for which the records were compiled.

(8) To an expert, consultant, or contractor (including employees of the contractor) of DOI that performs services requiring access to these records on DOI's behalf to carry out the purposes of the system.

(9) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(10) To the Office of Management and Budget during the coordination and clearance process in connection with legislative affairs as mandated by OMB Circular A-19.

(11) To the Department of the Treasury to recover debts owed to the United States.

(12) To the news media when the disclosure is compatible with the purpose for which the records were compiled.

(13) To a consumer reporting agency if the disclosure requirements of the Debt Collection Act, as outlined at 31 U.S.C. 3711(e)(1), have been met.

POLICIES AND PRACTICES FOR STORING, RETRIEVING, ACCESSING, RETAINING, AND DISPOSING OF RECORDS IN THE SYSTEM:

STORAGE:

Records are stored in manual and automated form. Any electronic records will be maintained at the offices of the above system locations on the Aviation Management Directorate's local area network server. Any paper records will be maintained within locked offices at the same locations.

RETRIEVABILITY:

Records may be retrieved by Social Security number, name, agency or location.

SAFEGUARDS:

Access to and use of these records is limited to those persons whose official duties require such access. Records are maintained in accordance with 43 CFR 2.51. Additional safeguards are as follows:

TECHNICAL SECURITY:

Access to records is limited to Departmental and contract personnel who are granted password access, and have an official need to use the records in the performance of their duties in accordance with requirements found in the DOI's Privacy Act regulations (43 CFR 2.51). Additionally, electronic records are protected by a firewall, network authentication (secure server), encryption, and file integrity auditing software meeting the requirements of 43 CFR 2.51 which conform to Office of Management and Budget and Departmental guidelines reflecting the implementation of the Federal Information Security Management Act.

PHYSICAL SECURITY:

Each geographic location is physically secured by entry access cards. When data is not in use by authorized personnel, paper and microfiche records are stored in locked file cabinets or in secured rooms. Electronically stored records are protected from unauthorized access through use of access codes, entry logs, and other system-based protection methods. The computer servers in which records are stored are located in computer facilities that are secured by alarm systems and off-master key access. A Privacy Act Warning Notice appears where records containing information on individuals are stored or displayed. Backup tapes are stored in a locked and controlled room in a secure, off-site location.

ADMINISTRATIVE SECURITY:

Only persons with need to access these files to accomplish their work are able to access them. All Departmental and/or contract employees must undergo mandatory records, security, and IT training before access is granted, and annually thereafter. They also sign Rules of Behavior that include proper use and safeguarding of information in systems before having access to agency systems. Such rules apply to be contractors and regular Departmental employees. Finally, all work on this system occurs in government offices with appropriate supervision by Federal employees.

RETENTION AND DISPOSAL:

Records will be disposed of in accordance with the National Archives and Records Administration (NARA) Records Schedule for these records, 7558.4, which was approved by NARA June 5, 2009 under its job number N1-048-09-2. That schedule states: “Destroy 7 years after cut-off or when no longer needed, whichever is later.”

SYSTEM MANAGERS AND ADDRESSES:

(1) Associate Director, Office of the Secretary, National Business Center, Aviation Management Directorate, 300 E. Mallard Drive, Suite 200, Boise, ID 83706;

(2) Regional Director, Office of the Secretary, National Business Center, Aviation Management Directorate, Alaska Regional Office, 4405 Lear Court AK 95502-1052.

NOTIFICATION PROCEDURES:

An individual requesting notification of the existence of records on himself or herself should send a signed, written inquiry to the Systems Manager identified above. The request envelope and letter should both be clearly marked “PRIVACY ACT INQUIRY.” A request for notification must meet the requirements of 43 CFR 2.60.

RECORDS ACCESS PROCEDURES:

An individual requesting records on himself or herself should send a signed, written inquiry to the Systems Manager identified above. The request should describe the records sought as specifically as possible. The request envelope and letter should both be clearly marked “PRIVACY ACT REQUEST FOR ACCESS.” A request for access must meet the requirements of 43 CFR 2.63.

CONTESTING RECORDS PROCEDURES:

An individual requesting corrections or the removal of material from his or her records should send a signed, written request to the System Manager identified above. A request for corrections or removal must meet the requirements of 43 CFR 2.71.

RECORD SOURCE CATEGORIES:

Information in this system comes from the individuals to whom it applies: professional, dual-function and incidental pilots employed by Interior bureaus/offices.

EXEMPTIONS CLAIMED FOR THE SYSTEM:

None.

[FR Doc. E9-23109 Filed 9-24-09; 8:45 am]

BILLING CODE 4310-RM-P